DEPARTMENT OF HEALTH AND HUMAN SERVICES

[Document Identifier: OS-0955-xxxx]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before April 13, 2020.

ADDRESSES: Submit your comments to Sherrette.Funn@hhs.gov or by calling (202) 795-7714.

FOR FURTHER INFORMATION CONTACT: When submitting comments or requesting information, please include the document identifier 0955-New-60D, and project title for reference, to Sherrette Funn, the Reports Clearance Officer, Sherrette.funn@hhs.gov, or call 202-795-7714.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: US Core Data for Interoperability (USCDI) New Data Element Submission Form.

Type of Collection: New.

OMB No. 0955-NEW-ONC.

Abstract: The Office of the National Coordinator for Health Information Technology is seeking the approval for a new information collection request item the “US Core Data for Interoperability (USCDI) New Data Element Submission Form.” The U.S. Core Data for Interoperability (USCDI) is a standardized set of health data classes and constituent data elements used to support nationwide, interoperable health information exchange. When published, the USCDI will become the required standard data elements set to which all health IT developers must conform to obtain ONC certification. This certification is required for participation in some federal healthcare payment plans. In order to insure the USCDI remains current and reflects the needs of the health IT community, ONC has established a predictable, transparent, and collaborative process to solicit broad stakeholder input to expand the USCDI. Anyone, including ONC staff, staff from other federal agencies, and other stakeholders may submit proposals for new data elements. These contributions will be in the form of public comments through our Health IT Advisory Committee (HITAC) as well as direct public contributions by proposing new data classes and data elements for addition to future versions of this health IT standard. The ONC will evaluate each submission in collaboration with the HITAC and upon approval by the National Coordinator for Health IT, new data classes and data elements from these submissions will be added to the newest version of the USCDI standard for integration into health information technology products such as electronic health records. The ONC is seeking approval to collect this information yearly from Health IT Stakeholders.

Annualized Burden Hour Table
Forms (if necessary) | Respondents (if necessary) | Number of respondents | Number of responses per respondents | Average burden per response | Total burden hours
USCDI Submission | HIT Stakeholder | 100 | 1 | 20/60 | 33
Total |  |  |  |  | 33

Dated: February 6, 2020.
Terry Clark,
Office of the Secretary, Asst Paperwork Reduction Act Reports Clearance Officer.

[FR Doc. 2020-02698 Filed 2-10-20; 8:45 am]

BILLING CODE 4150-45-P